DEPARTMENT OF DEFENSE

GENERAL SERVICES ADMINISTRATION

NATIONAL AERONAUTICS AND SPACE ADMINISTRATION

48 CFR Chapter 1

[Docket No. FAR 2014-0051, Sequence No. 5]

Federal Acquisition Regulation; Federal Acquisition Circular 2005-77; Introduction

AGENCIES: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2005-77. A companion document, the Small Entity Compliance Guide (SECG), follows this FAC. The FAC, including the SECG, is available via the Internet at http://www.regulations.gov.

DATES: For effective dates and comment dates see separate documents, which follow.

FOR FURTHER INFORMATION CONTACT: The analyst whose name appears in the table below in relation to the FAR case. Please cite FAC 2005-77 and the specific FAR case number. For information pertaining to status or publication schedules, contact the Regulatory Secretariat at 202-501-4755.

Rules Listed in FAC 2005-77
Item | Subject | FAR case | Analyst
I | Federal Contracting Programs for Minority-Owned and Other Small Businesses | 2009-016 | Uddowla
II | Irrevocable Letters of Credit | 2011-023 | Davis
III | Uniform Procurement Identification | 2012-023 | Loeb

SUPPLEMENTARY INFORMATION: Summaries for each FAR rule follow. For the actual revisions and/or amendments made by these rules, refer to the specific item numbers and subjects set forth in the documents following these item summaries. FAC 2005-77 amends the FAR as specified below:

Item I—Federal Contracting Programs for Minority-Owned and Other Small Businesses (FAR Case 2009-016)

This final rule amends the FAR to remove certain coverage involving procurements with small disadvantaged business concerns and certain institutions of higher education that is based on authority which has expired and been found to be unconstitutional by the Court of Appeals for the Federal Circuit. These changes harmonize the FAR with current statutory authorities. The impact of this rule on small businesses should be minimal, given that the coverage applied only to prime contracting opportunities in specific North American Industry Classification System codes, and was applicable to only three Government agencies, (DoD, NASA and U.S. Coast Guard). The obligation of Federal Agencies to meet or exceed the statutory five percent small disadvantaged business goals at the prime and subcontracting levels are not affected by this rule.

Item II—Irrevocable Letters of Credit (FAR Case 2011-023)

This final rule amends the FAR to remove all references to Office of Federal Procurement Policy (OFPP) Pamphlet No. 7, Use of Irrevocable Letters of Credit (ILC). This change is necessary to update the sources of data required to verify the credit worthiness of a financial entity issuing or confirming an ILC.

This final rule has no significant impact on the Government and contractors including small business entities and imposes no new requirements. Contracting Officers are currently required to verify the credit worthiness of a financial entity issuing or confirming an ILC and will benefit from this updated information to conduct an accurate analysis.

Item III—Uniform Procurement Identification (FAR Case 2012-023)

This final rule amends the FAR to implement a uniform Procurement Instrument Identification (PIID) numbering system, which will require the use of Activity Address Codes (AACs) as the unique identifier for contracting offices and other offices, in order to standardize procurement transactions across the Federal Government. Agencies shall comply with the new PIID procedures in FAR subpart 4.16 by October 1, 2017, for new solicitations and contract awards.

Dated: September 30, 2014.

William Clark,

Acting Director, Office of Government-wide Acquisition Policy, Office of Acquisition Policy, Office of Government-wide Policy.

Federal Acquisition Circular (FAC) 2005-77 is issued under the authority of the Secretary of Defense, the Administrator of General Services, and the Administrator for the National Aeronautics and Space Administration.

Unless otherwise specified, all Federal Acquisition Regulation (FAR) and other directive material contained in FAC 2005-77 is effective October 14, 2014 except for items II and III which are effective November 13, 2014.

Dated: October 1, 2014.
Richard Ginman,
Director, Defense Procurement and Acquisition Policy.
Dated: August 11, 2014.
Jeffrey A. Koses,
Senior Procurement Executive/Deputy CAO, Office of Acquisition Policy, U.S. General Services Administration.
Dated: September 29, 2014.
William P. McNally,
Assistant Administrator for Procurement, National Aeronautics and Space Administration.

[FR Doc. 2014-24233 Filed 10-10-14; 8:45 am]

BILLING CODE 6820-20-P